DEPARTMENT OF HEALTH AND HUMAN SERVICES

National Institutes of Health

National Center for Research Resources; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Center for Research Resources Special Emphasis Panel; Conference Grant SEP.

Date: October 31, 2007.

Time: 1 p.m. to 3 p.m.

Agenda: To review and evaluate grant applications.

Place: National Institutes of Health, One Democracy Plaza, 6701 Democracy Boulevard, Room—1087, Bethesda, MD 20892 (Telephone Conference Call).

Contact Person: Steven Birken, PhD, Scientific Review Administrator, Office of Review, National Center for Research Resources, National Institutes of Health, 6701 Democracy Blvd., 10th Fl., Bethesda, MD 20892, (301) 435-1078, birkens@mail.nih.gov.

This notice is being published less than 15 days prior to the meeting due to the timing limitations imposed by the review and funding cycle.

Name of Committee: National Center for Research Resources Special Emphasis Panel; C.O.B.R.E.—SEP.

Date: November 1, 2007.

Time: 8 a.m. to 5 p.m.

Agenda: To review and evaluate grant applications.

Place: Hyatt Regency Bethesda, One Bethesda Metro Center, 7400 Wisconsin Avenue, Bethesda, MD 20814.

Contact Person: Linda C. Duffy, PhD, Scientific Review Administrator, Office of Review, National Center for Research Resources, National Institutes of Health, 6701 Dem. Blvd., 1 Dem, Plaza, Rm. 1082, MSC 4874, Bethesda, MD 20892-4874, 301-435-0810, duffyl@mail.nih.gov.

Name of Committee: National Center for Research Resources Special Emphasis Panel; Comparative Medicine SEP.

Date: November 7, 2007.

Time: 2:30 p.m. to 5:30 p.m.

Agenda: To review and evaluate grant applications.

Place: National Institutes of Health, One Democracy Plaza, 6701 Democracy Boulevard, Room—1087, Bethesda, MD 20892 (Telephone Conference Call).

Contact Person: Steven Birken, PhD, Scientific Review Administrator, National Center for Research Resources, or National Institutes of Health, 6701 Democracy Boulevard, One Democracy Plaza, Room 1078, MSC 4874, Bethesda, MD 20892-4874, 301-435-0815, birkens@mail.nih.gov.

Name of Committee: National Center for Research Resources Special Emphasis Panel; CM SEP 08'.

Date: November 19, 2007.

Time: 2 p.m. to 3:30 p.m.

Agenda: To review and evaluate grant applications.

Place: National Institutes of Health, 1 Democracy Plaza, 6701 Democracy Blvd., 1087, Bethesda, MD 20892 (Telephone Conference Call).

Contact Person: Steven Birken, PhD, Scientific Review Administrator, National Center for Research Resources, or National Institutes of Health, 6701 Democracy Boulevard, One Democracy Plaza, Room 1078, MSC 4874, Bethesda, MD 20892-4874, 301-435-0815, birkens@mail.nih.gov.

(Catalogue of Federal Domestic Assistance Program Nos. 93.306, Comparative Medicine; 93.333, Clinical Research; 93.371, Biomedical Technology; 93.389, Research Infrastructure, 93.306, 93.333, National Institutes of Health, HHS)

Dated: October 5, 2007.
Jennifer Spaeth,
Director, Office of Federal Advisory Committee Policy.

[FR Doc. 07-5089 Filed 10-15-07; 8:45 am]

BILLING CODE 4140-01-M